Proclamation 9287 of May 22, 2015

Prayer for Peace, Memorial Day, 2015

By the President of the United States of America

A Proclamation

On Memorial Day, the United States pauses to honor the fallen heroes who died in service to our Nation. With heavy hearts and a sense of profound gratitude, we mourn these women and men—parents, children, loved ones, comrades-in-arms, friends, and all those known and unknown—who believed so deeply in what our country could be they were willing to give their lives to protect its promise. Our hearts ache in their absence, but their spirit gives us strength to continue their work of securing and renewing the liberties that all Americans cherish and for which these heroes gave their last full measure of devotion.

In solemn reflection, we gather—in small towns and big cities, on battlefields, in cemeteries, and at sacred places where blood has been shed for freedom's cause—throughout our country and around the world to remember the unbroken chain of patriots who won independence, saved our Union, defeated fascism, and protected the Nation we love from emerging threats in a changing world. Today, their legacy is carried forward by a new generation of servicemen and women and all who strive to shape a more perfect America; and their enormous sacrifices continue to make our opportunity possible.

We owe all those who sacrifice in our name a tremendous debt, including our Nation's mothers and fathers who have given their daughters and sons to America, spouses and partners who shoulder the weight of unthinkable loss, and courageous children in whom the legacies of their parents live on. As a Nation, we must uphold our obligations to these Gold Star families. We have pledged to them that they will never walk alone—that their country will be there for them always—and we must work every day to make good on this promise.

Our Nation will never forget the valor and distinction of the women and men who defend freedom, justice, and peace. Today, we rededicate ourselves to commitments equal to the caliber of those who have rendered the highest service: to support our troops with the resources they need to do their jobs; to never stop searching for those who have gone missing or are prisoners of war; to ensure all our veterans have access to the care and benefits they have earned and deserve; and to continue our constant work of building a Nation worthy of the heroes we honor today.

In honor of all of our fallen service members, the Congress, by a joint resolution approved May 11, 1950, as amended (36 U.S.C. 116), has requested the President issue a proclamation calling on the people of the United States to observe each Memorial Day as a day of prayer for permanent peace and designating a period on that day when the people of the United States might unite in prayer. The Congress, by Public Law 106-579, has also designated 3:00 p.m. local time on that day as a time for all Americans to observe, in their own way, the National Moment of Remembrance.

NOW, THEREFORE, I, BARACK OBAMA, President of the United States of America, do hereby proclaim Memorial Day, May 25, 2015, as a day of prayer for permanent peace, and I designate the hour beginning in each locality at 11:00 a.m. of that day as a time during which people may unite in prayer. I also ask all Americans to observe the National Moment of Remembrance beginning at 3:00 p.m. local time on Memorial Day.

I request the Governors of the United States and its Territories, and the appropriate officials of all units of government, to direct that the flag be flown at half-staff until noon on this Memorial Day on all buildings, grounds, and naval vessels throughout the United States and in all areas under its jurisdiction and control. I also request the people of the United States to display the flag at half-staff from their homes for the customary forenoon period.

IN WITNESS WHEREOF, I have hereunto set my hand this twenty-second day of May, in the year of our Lord two thousand fifteen, and of the Independence of the United States of America the two hundred and thirty-ninth.

[FR Doc. 2015-13053

Filed 5-27-15; 8:45 am]

Billing code 3295-F5